DEPARTMENT OF COMMERCE

International Trade Administration

[A-489-805]

Certain Pasta From Turkey: Final Results of Antidumping Duty Administrative Review and Determination Not To Revoke the Antidumping Duty Order in Part

AGENCY: Import Administration, International Trade Administration, Department of Commerce.

ACTION: Notice of Final Results of Antidumping Duty Administrative Review and Determination Not to Revoke the Antidumping Duty Order in Part: Certain Pasta from Turkey.

SUMMARY: On June 28, 2001, the Department of Commerce (the Department) published the preliminary results of the administrative review of the antidumping duty order on certain pasta from Turkey. This review covers the following exporters/producers of subject merchandise: (1) Pastavilla Makarnacilik Sanayi ve Ticaret A.S. (Pastavilla); and (2) Filiz Gida Sanayi ve Ticaret A.S. (Filiz). The period of review (POR) is July 1, 1999, through June 30, 2000.

Based on our analysis of the comments received, these final results differ from the preliminary results. The final results are listed in the section “Final Results of Review.” For our final results, we have found that during the POR, Pastavilla sold subject merchandise at less than normal value (NV). In addition, we are not revoking the antidumping order with respect to Pastavilla, because it has not had three years of sales in commercial quantities at less than NV. See “Determination Not to Revoke” section of this notice. We have also found that during the POR, Filiz did not make sales of the subject merchandise at less than NV (i.e., it had “zero” or de minimis dumping margins).

EFFECTIVE DATE: January 3, 2002.

FOR FURTHER INFORMATION CONTACT: James Terpstra or Lyman Armstrong, AD/CVD Enforcement, Office VI, Group II, Import Administration, International Trade Administration, U.S. Department of Commerce, 14th Street and Constitution Avenue, NW., Washington, DC 20230; telephone: (202) 482-3965 or (202) 482-3601, respectively.

SUPPLEMENTARY INFORMATION:

Applicable Statute and Regulations

Unless otherwise indicated, all citations to the Tariff Act of 1930, as amended (the Act) are references to the provisions effective January 1, 1995, the effective date of the amendments made to the Act by the Uruguay Round Agreements Act (URAA). In addition, unless otherwise indicated, all citations to the Department's regulations refer to the regulations codified at 19 CFR part 351 (2000).

Case History

On June 28, 2001, the Department published the preliminary results of its administrative review of the antidumping duty order on certain pasta from Turkey. See Notice of Preliminary Results and Partial Rescission of Antidumping Duty Administrative Review: Certain Pasta from Turkey, 66 FR 34410 (June 28, 2001) (Preliminary Results). The review covers two manufacturers/exporters. The POR is July 1, 1999, through June 30, 2000. We invited parties to comment on our preliminary results of review. In response to the Department's invitation to comment on the preliminary results of this review, New World Pasta, a petitioner¹ in the case, filed a case brief on August 2, 2001, and the respondents filed case briefs on August 6, 2001. We received rebuttal briefs from New World Pasta and Pastavilla on August 13, 2001. A public hearing was not held with respect to this review because no party requested one. On September 26, 2001, respondents requested that the Department extend its final results in order to incorporate in our margin calculation programs the results from the most recently completed reviews of the countervailing duty order on pasta from Turkey. On November 1, 2001, the Department published a notice postponing the final results of this review until December 25, 2001 (66 FR 55160). The Department has conducted this administrative review in accordance with section 751(a) of the Act.

¹ The petitioners are Borden Inc., Hershey Foods Corp. (Hershey Pasta), Grocery Corp Inc., and Gooch Foods, Inc. (effective January 1, 1999, Hershey Pasta and Grocery Corp., Inc. became New World Pasta, Inc.).

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and Customs purposes, the written description of the merchandise subject to the order is dispositive.

Scope Rulings

The Department has issued the following scope ruling to date:

(1) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See Memorandum from John Brinkmann to Richard Moreland, dated May 24, 1999, in the case file in the Central Records Unit, main Commerce building, room B-099 (the CRU).

Determination Not To Revoke

Pastavilla has had zero or de minimis dumping margins for the previous two review periods. See Notice of Final Results of Antidumping Duty Administrative Review: Certain Pasta from Turkey 64 FR 69493 (December 13, 1999); see also, Notice of Final Results and Partial Recission of Antidumping Duty Administrative Review: Certain Pasta from Turkey 63 FR 68429 (December 11, 1998). However, as shown in the final results of this review, Pastavilla's weight-averaged dumping margin is 2.78 percent, which is above the de minimis rate of 0.50 percent. See 19 CFR 351.106(c). Consequently, Pastavilla has not made sales of subject merchandise “at not less than NV for a period of at least three consecutive years” as required by the Department's regulations. Because one of the requirements to qualify for revocation has not been met, the Department has not addressed the issues of commercial quantities and whether the continued application of the antidumping duty order is necessary to offset dumping with regard to Pastavilla. Thus, we determine not to revoke this order with respect to Pastavilla.

Analysis of Comments Received

All issues raised in the case and rebuttal briefs by parties to this administrative review are addressed in the Issues and Decision Memorandum for the Fourth Antidumping Duty Administrative Review (Decision Memorandum) from Bernard Carreau, Deputy Assistant Secretary for Import Administration, to Faryar Shirzad, Assistant Secretary for Import Administration, dated concurrently with this notice, which is hereby adopted by this notice. A list of the issues which parties have raised, and to which we have responded in the Decision Memorandum, is attached to this notice as an Appendix. Parties can find a complete discussion of all issues raised in this review and the corresponding recommendations in this public memorandum, which is on file in the CRU. In addition, a complete version of the Decision Memorandum can be accessed directly on the Web at http://ia.ita.doc.gov. The paper copy and electronic version of the Decision Memorandum are identical in content.

Changes Since the Preliminary Results

Based on our analysis of comments received, we have made certain changes in the margin calculations. We calculated the export price and normal value using the same methodology stated in the Preliminary Results, except as follows:

• For the countervailing duty field (i.e., CVDU) reported by Filiz, in the preliminary results, the Department mistakenly divided Filiz's reported figure by one thousand, on the premise that the figure was reported in $/metric ton and therefore must be converted to $/kilogram. We have corrected this error by not converting this field for purposes of these final results. In addition, we have reevaluated the appropriate amount of countervailing duties applicable to the dumping calculations for Filiz and Pastavilla.

• The Department has deleted its re-indexing of Pastavilla's fixed overhead (FOH) field and, instead, accepted Pastavilla's indexing of its FOH reported in the cost database.

• The Department corrected a typographical error for the amount to be indexed for hyper-inflation for the month of August 1999 in its affiliated party program.

These changes are discussed in the relevant sections of the Decision Memorandum.

Final Results of Review

As a result of our review, we determine that the following weighted-average percentage margins exist for the period July 1, 1999, through June 30, 2000:

Manufacturer/exporter | Margin (percent)
Filiz | 0.00
Pastavilla | 2.78

Assessment Rate

The Department shall determine, and Customs shall assess, antidumping duties on all appropriate entries. In accordance with 19 CFR 351.212(b), we have calculated exporter/importer-specific assessment rates by aggregating the dumping margins for all U.S. sales to each importer and dividing the amount by the total entered value of the sales to that importer. Where the importer-specific assessment rate is above de minimis, we will instruct Customs to assess antidumping duties on that importer's entries of subject merchandise. We will direct Customs to assess the resulting percentage margins against the entered Customs values for the subject merchandise on each of that importer's entries under the order during the POR.

Cash Deposit Requirements

The following deposit requirements will be effective upon publication of this notice of final results of administrative review for all shipments of certain pasta from Turkey entered, or withdrawn from warehouse, for consumption on or after the date of publication, as provided by section 751(a)(1) of the Act: (1) The cash deposit rate for the reviewed companies will be the rates shown above, except where the margin is de minimis or zero we will instruct Customs not to collect cash deposits; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 51.49 percent, the “All Others” rate established in the LTFV investigation. See Notice of Antidumping Duty Order and Amended Final Determination of Sales at Less Than Fair Value: Certain Pasta from Turkey, 61 FR 38545 (July 24, 1996). These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i)(1) of the Act.

Dated: December 26, 2001.
Richard W. Moreland,
Acting Assistant Secretary for Import Administration.

Appendix

List of Comments and Issues in the Decision Memorandum

Filiz and Pastavilla

1. Calculation of the Countervailing Duty (CVD) Field

Pastavilla

2. Calculation of Warranty Expense

3. Application of Negative Interest Cost

4. Indexing Fixed Overhead Costs

5. Revocation of the Antidumping Duty Order with Respect to Pastavilla

6. Clerical Error in the Affiliated Party Program

[FR Doc. 02-126 Filed 1-2-02; 8:45 am]

BILLING CODE 3510-DS-P